DEPARTMENT OF VETERANS AFFAIRS

Vocational Rehabilitation and Employment Task Force; Notice of Meeting

The Department of Veterans Affairs (VA) gives notice under Public Law 92-463 (Federal Advisory Committee Act) that a meeting of the VA Vocational Rehabilitation and Employment (VR&E) Task Force will be held on Thursday, February 18, 2004, at the Paralyzed Veterans of America (PVA) National Headquarters, 801 18th Street, NW., Main Conference Room, Washington, DC 20006. The meeting will be open to the public.

The purpose of the Task Force is to conduct an independent review of the VR&E program within the Veterans Benefits Administration. The Task Force will provide recommendations to the Secretary of Veterans Affairs on improving the Department's ability to deliver employment and vocational rehabilitation services to veterans with service-connected disabilities and employment handicaps.

The principal purpose of the meeting is to conduct final deliberations on those recommendations contained in the Task Force report which will be formally presented to the Secretary of Veterans Affairs in the near future. The meeting will convene at 10 a.m. and conclude after the Task has completed discussions on the report.

No time will be allocated for receiving oral presentations from the public. Members of the public may submit written comments for review by the Task Force to Mr. John O'Hara, Designated Federal Officer, Vocational Rehabilitation and Employment Task Force, c/o Office of Policy, Planning, and Preparedness (008B), Department of Veterans Affairs, 810 Vermont Avenue, NW., Washington, DC 20420. Mr. O'Hara's e-mail is john.o'hara@mail.va.gov and his fax number is (202) 273-5991.

Dated: February 2, 2004.
By Direction of the Secretary.
E. Philip Riggin,
Committee Management Officer.

[FR Doc. 04-2686 Filed 2-9-04; 8:45 am]

BILLING CODE 8320-01S-M